DEPARTMENT OF THE INTERIOR

Bureau of Land Management

[OR-958-1430-ET; HAG-03-0010; WAOR-57423]

Proposed Withdrawal and Opportunity for Public Meeting; Washington; Correction

AGENCY: Bureau of Land Management, Interior.

ACTION: Correction.

SUMMARY: In the Notice of Proposed Withdrawal and Opportunity for Public Meeting, 67 FR 57618, published September 11, 2002, as FR Doc. 02-23040, make the following correction:

On page 57618, in the metes and bounds portion of the legal description, T. 40 N., R. 44 E., Sec. 31, lots 2, 3, 4, NE¼NE¼, NE¼NW¼ , NE¼SE¼ , S½SW¼; , should read T. 40 N., R. 44 E., Sec. 31, lots 2, 3, 4, NE¼NE¼, NE¼NW¼, NE¼SE¼, S½SE¼.

Robert D. DeViney, Jr.,
Chief, Branch of Realty and Records Services, Oregon/Washington.

[FR Doc. 02-29828 Filed 11-21-02; 8:45 am]

BILLING CODE 4310-33-P